EXECUTIVE OFFICE OF THE PRESIDENT

Information Collection Activities and Request for Comments

AGENCY: Office of National Drug Control Policy, Executive.

ACTION: Notice.

SUMMARY: The National Youth Anti-Drug Media Campaign is a program within the Office of National Drug Control Policy (ONDCP). To generate anti-drug awareness, the Media Campaign has partnered with the Advertising Council to create an advertising campaign that encourages local community coalitions to engage in drug prevention activities. In addition, the partnership proposes to collect information from interested adults to determine whether public service advertising increases participation in local coalition activities, the usefulness of local public service announcements, and community response to public service announcements. ONDCP invites comments on the (a) information necessary to accurately measure partnership efforts; (b) quality, utility and clarity of the information; (c) methods that minimize the burden of information collection techniques; and (d) accuracy of the estimated burden of information collection.

FOR FURTHER INFORMATION CONTACT: Gem Benoza (202) 395-4625.

Dated: March 13, 2002.
Don Maple,
Media Campaign Deputy Director.

[FR Doc. 02-6716 Filed 3-19-02; 8:45 am]

BILLING CODE 3180-02-U